DEPARTMENT OF LABOR

Occupational Safety and Health Administration

[Docket No. OSHA-2012-0011]

Advisory Committee on Construction Safety and Health (ACCSH)

AGENCY: Occupational Safety and Health Administration (OSHA), Labor.

ACTION: Announcement of ACCSH and ACCSH Work Group meetings and renewal of the ACCSH Charter.

SUMMARY: ACCSH will meet November 29-30, 2012, in Washington, DC. In conjunction with the ACCSH meeting, ACCSH Work Groups will meet November 27-28, 2012. OSHA also announces the renewal of the ACCSH Charter for two years.

DATES: ACCSH meeting: ACCSH will meet from 8 a.m. to 4:15 p.m., Thursday, November 29, 2012, and from 8 a.m. to noon, Friday, November 30, 2012.

ACCSH Work Group meetings: ACCSH Work Groups will meet Tuesday and Wednesday, November 27-28, 2012. (For Work Group meeting times, see the “Work Group” schedule in the SUPPLEMENTARY INFORMATION section of this notice.)

Comments, requests to speak, speaker presentations, and requests for special accommodation: You must submit (postmark, send, transmit) comments, requests to address the ACCSH meeting, speaker presentations (written or electronic), and requests for special accommodations for the ACCSH and ACCSH Work Group meetings by November 16, 2012.

ADDRESSES: ACCSH and ACCSH Work Group meetings: ACCSH and ACCSH Work Groups will meet in Room N-3437 A-C, U.S. Department of Labor, 200 Constitution Avenue NW., Washington, DC 20210.

Submission of comments, requests to speak, and speaker presentations: You may submit comments, requests to speak at the ACCSH meeting, and speaker presentations, which you must identify by the docket number for this Federal Register notice (Docket No. OSHA-2012-0011), by one of the following methods:

Electronically: You may submit materials, including attachments, electronically at http://www.regulations.gov, which is the Federal eRulemaking Portal. Follow the on-line instructions for submissions;

Facsimile (Fax): If your submission, including attachments, does not exceed 10 pages, you may fax it to the OSHA Docket Office at (202) 693-1648; or

Mail, hand delivery, express mail, messenger, or courier service: You may submit your materials to the OSHA Docket Office, Docket No. OSHA-2012-0011, Room N-2625, U.S. Department of Labor, 200 Constitution Avenue NW., Washington, DC 20210; telephone (202) 693-2350 (TTY (877) 889-5627). The Department of Labor and OSHA's Docket Office accept deliveries (hand delivery, express mail, messenger or courier service) during normal business hours, 8:15 a.m.-4:45 p.m., e.t., weekdays.

Requests for special accommodations: Please submit your request for special accommodations to attend the ACCSH and ACCSH Work Group meetings to Ms. Veneta Chatmon, OSHA, Office of Communications, Room N-3647, U.S. Department of Labor, 200 Constitution Avenue NW., Washington, DC 20210; telephone (202) 693-1999; email chatmon.veneta@dol.gov.

Instructions: Your submissions must include the Agency name and docket number for this Federal Register notice (Docket No. OSHA-2012-0011). Due to security-related procedures, submissions by regular mail may experience significant delays. Please contact the OSHA Docket Office for information about security procedures for making submissions. For additional information on submitting comments, requests to speak, and speaker presentations, see the SUPPLEMENTARY INFORMATION section of this notice.

OSHA will post comments, requests to speak, and speaker presentations, including any personal information you provide, without change, at http://www.regulations.gov. Therefore, OSHA cautions you about submitting personal information such as Social Security numbers and birthdates.

FOR FURTHER INFORMATION CONTACT: For press inquiries: Mr. Frank Meilinger, Director, OSHA Office of Communications, Room N-3647, U.S. Department of Labor, 200 Constitution Avenue NW., Washington, DC 20210; telephone (202) 693-1999; email meilinger.francis2@dol.gov.

For general information about ACCSH and ACCSH meetings: Mr. Damon Bonneau, OSHA Directorate of Construction, Room N-3468, U.S. Department of Labor, 200 Constitution Avenue NW., Washington, DC 20210; telephone (202) 693-2020; email bonneau.damon@dol.gov.

SUPPLEMENTARY INFORMATION:

ACCSH Meeting

ACCSH will meet November 29-30, 2012, in Washington, DC. The meeting is open to the public.

ACCSH advises the Secretary of Labor (Secretary) and Assistant Secretary of Labor for Occupational Safety and Health (Assistant Secretary) in the formulation of standards affecting the construction industry, and on policy matters arising in the administration of the safety and health provisions under the Contract Work Hours and Safety Standards Act (Construction Safety Act) (40 U.S.C. 3701 et seq.) and the Occupational Safety and Health Act of 1970 (29 U.S.C. 651 et seq.) (see also 29 CFR 1911.10 and 1912.3).

The tentative agenda for this meeting includes:

• Assistant Secretary's Agency update and remarks;

• Directorate of Construction update on rulemaking projects;

• Discussion on the Request for Information on Reinforced Concrete/Post Tensioning and Backing Operations;

• National Institute for Occupational Safety and Health (NIOSH) update;

• Discussion of on-line training issues;

• Standards Improvement Project (SIP) IV rulemaking update;

• Presentation on OSHA Information System (OIS);

• ACCSH and ACCSH Work Group reports and administration; and

• Public comment period.

OSHA transcribes ACCSH meetings and prepares detailed minutes of meetings. OSHA places the transcript and minutes in the public docket for the meeting. The docket also includes ACCSH Work Group reports, speaker presentations, comments, and other materials submitted to ACCSH.

Work Group Meetings

In conjunction with the ACCSH meeting, the following ACCSH Work Groups will meet November 27, 2012:

• Health Hazards, Emerging Issues and Prevention through Design: Noon to 2 p.m.

• Diversity/Multilingual/Women in Construction: 2:15 to 4:15 p.m.

The following ACCSH Work Groups will meet November 28, 2012:

• Training and Outreach: 8 to 10 a.m.

• Injury and Illness Prevention Programs: 10:15 a.m. to 12:15 p.m.

• Backing Operations: 1:15 to 3:15 p.m.

ACCSH Work Group meetings are open to the public. For additional information on ACCSH Work Group meetings or participating in them, please contact Mr. Bonneau or look on the ACCSH page on OSHA's Web page at http://www.osha.gov.

Public Participation, Submissions, and Access to Public Record

ACCSH and ACCSH Work Group meetings: All ACCSH and ACCSH Work Group meetings are open to the public. Individuals attending meetings at the U.S. Department of Labor must enter the building at the visitors' entrance, 3rd and C Streets NW., and pass through building security. Attendees must have valid government-issued photo identification to enter the building. For additional information about building security measures for attending the ACCSH and ACCSH Work Group meetings, please contact Ms. Chatmon (see ADDRESSES section). Please submit your request for special accommodations to attend the ACCSH and ACCSH Work Group meetings to Ms. Chatmon.

Submission of comments: You may submit comments using one of the methods in the ADDRESSES section. Your submissions must include the Agency name and docket number for this Federal Register notice (Docket No. OSHA-2012-0011). OSHA will provide copies of submissions to ACCSH members.

Because of security-related procedures, submissions by regular mail may experience significant delays. For information about security procedures for submitting materials by hand delivery, express mail, and messenger or courier service, contact the OSHA Docket Office (see ADDRESSES section).

Requests to speak and speaker presentations: If you wish to address ACCSH at their meeting you must submit your request to speak, as well as your written or electronic presentation (e.g., PowerPoint), by November 16, 2012, using one of the methods listed in the ADDRESSES section. Your request must state:

• The amount of time requested to speak;

• The interest you represent (e.g., business, organization, affiliation), if any; and

• A brief outline of the presentation.

PowerPoint presentations and other electronic materials must be compatible with PowerPoint 2003 and other Microsoft Office 2003 formats.

Alternately, at the ACCSH meeting, you may request to address ACCSH briefly by signing the public-comment request sheet and listing the topic(s) you will address. You also must provide 20 hard copies of any materials, written or electronic, you want to present to ACCSH.

The ACCSH Chair may grant requests to address ACCSH as time and circumstances permit. The Chair will give preference to individuals who submitted speaker requests and presentations by November 16, 2012.

Public docket of the ACCSH meeting: OSHA places comments, requests to speak, and speaker presentations, including any personal information you provide, in the public docket of this ACCSH meeting without change, and those documents may be available online at http://www.regulations.gov. Therefore, OSHA cautions you about submitting personal information such as Social Security numbers and birthdates.

OSHA also places the meeting transcript, meeting minutes, documents presented at the ACCSH meeting, Work Group reports, and other documents pertaining to the ACCSH and ACCSH Work Group meetings in the public docket. These documents are available online at http://www.regulations.gov.

Access to the public record of ACCSH and ACCSH Work Group meetings: To read or download documents in the public docket of these ACCSH and ACCSH Work Group meetings, go to Docket No. OSHA-2012-0011 at http://www.regulations.gov. All documents in the public record for these meetings are listed in the http://www.regulations.gov index; however, some documents (e.g., copyrighted materials) are not publicly available through that Web page. All documents in the public record, including materials not available through http://www.regulations.gov, are available for inspection and copying in the OSHA Docket Office (see ADDRESSES section). Please contact the OSHA Docket Office for assistance in making submissions to, or obtaining materials from, the public docket.

Electronic copies of this Federal Register notice are available at http://www.regulations.gov. This notice, as well as news releases and other relevant information, also are available on the OSHA Web page at http://www.osha.gov.

Announcement of ACCSH Charter Renewal

The Secretary has renewed the ACCSH Charter, which will expire two years from the day the charter is filed.

To read or download a copy of the new ACCSH Charter, go to Docket No. OSHA-2012-0011 at http://www.regulations.gov. The Charter also is available on the ACCSH page on OSHA's Web page at http://www.osha.gov, and at the OSHA Docket Office (see ADDRESSES section). In addition, the Charter may be viewed or downloaded at the FACA database at http://www.fido.gov.

Authority and Signature

David Michaels, Ph.D., MPH, Assistant Secretary of Labor for Occupational Safety and Health, authorized the preparation of this notice under the authority granted by Section 7 of the Occupational Safety and Health Act of 1970 (29 U.S.C. 656), Section 107 of the Contract Work Hours and Safety Standards Act (Construction Safety Act) 40 U.S.C. 3704, 5 U.S.C. App. 2, 29 CFR parts 1911 and 1912, 41 CFR part 102, and Secretary of Labor's Order No. 1-2012 (77 FR 3912).

Signed at Washington, DC, on October 31, 2012.
David Michaels,
Assistant Secretary of Labor for Occupational Safety and Health.

[FR Doc. 2012-26980 Filed 11-5-12; 8:45 am]

BILLING CODE 4510-26-P